NATIONAL AERONAUTICS AND SPACE ADMINISTRATION

[Notice: 13-065]

NASA Advisory Council; Science Committee; Astrophysics Subcommittee; Meeting

AGENCY: National Aeronautics and Space Administration.

ACTION: Notice of meeting.

SUMMARY: In accordance with the Federal Advisory Committee Act, Public Law 92-462, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: Tuesday, July 16, 2013, 9:00 a.m. to 5:00 p.m., and Wednesday, July 17, 2013, 9:00 a.m. to 4:00 p.m., Local Time.

ADDRESSES: NASA Goddard Space Flight Center, Building 1, Rooms E100D and E100E, 8800 Greenbelt Road, Greenbelt, Maryland 20771.

FOR FURTHER INFORMATION CONTACT: Ms. Marian Norris, Science Mission Directorate, NASA Headquarters, Washington, DC 20546, (202) 358-4452 or mnorris@nasa.gov.

SUPPLEMENTARY INFORMATION: The meeting will be open to the public up to the capacity of the room. This meeting is also available telephonically and by WebEx. Any interested person may call the USA toll free conference call number (800) 857-7040, pass code APS, to participate in this meeting by telephone. The WebEx link is https://nasa.webex.com/, the meeting number on July 16 is 994 082 104, and the password is APS@July16; the meeting number on July 17 is 990 483 015, and the password is APS@July17. The agenda for the meeting includes the following topics:

—Astrophysics Division Update

—Astrophysics Roadmap

—James Webb Space Telescope Briefing

It is imperative that the meeting be held on these dates to accommodate the scheduling priorities of the key participants. All attendees will be requested to sign a register and to comply with NASA security requirements. U.S. attendees must show a valid State or Federal issued photo ID, passport, or Permanent Resident green card, before receiving an access badge to enter into the NASA Goddard Space Flight Center and must state that they are attending the NASA Advisory Council's Astrophysics Subcommittee meeting in Building 1. All U.S. citizens and green card holders desiring to attend must provide their full name, company affiliation (if applicable), and citizenship to Marian Norris via email at mnorris@nasa.gov or by telephone at (202) 358-4452 no later than the close of business July 9, 2013. Foreign Nationals must provide following information: full name, gender, date/place of birth, citizenship, home address, visa information (number, type, expiration date), passport information (number, country of issue, expiration date), employer/affiliation information (name of institution, title/position, address, country of employer, telephone, email address), and an electronically scanned copy of their passport and visa to Marian Norris via email at mnorris@nasa.gov no later than close of business July 1, 2013. If the above information is not received by the noted dates, U.S. attendees should expect a minimum delay of two (2) hours, and Foreign Nationals may not be granted entrance. All visitors to this meeting will report to the Goddard Space Flight Center (GSFC) Main Gate where they will be processed through security prior to entering GSFC. For security questions on the day of the meeting, please call Mary Holland at (301) 286-5412 or email mary.holland@nasa.gov.

Patricia D. Rausch,
Advisory Committee Management Officer, National Aeronautics and Space Administration.

[FR Doc. 2013-14324 Filed 6-14-13; 8:45 am]

BILLING CODE 7510-13-P